ADVISORY COUNCIL ON HISTORIC PRESERVATION

Notice of Meeting

AGENCY: Advisory Council on Historic Preservation.

ACTION: Notice of meeting.

SUMMARY: Notice is hereby given that the Advisory Council on Historic Preservation (ACHP) will meet Friday, December 4, 2009. The meeting will be held in Room MO9 of the Old Post Office Building, 1100 Pennsylvania Ave., NW., Washington, DC at 9 a.m.

The ACHP was established by the National Historic Preservation Act of 1966 (16 U.S.C. 470 et seq.) to advise the President and Congress on national historic preservation policy and to comment upon Federal, federally assisted, and federally licensed undertakings having an effect upon properties listed in or eligible for inclusion in the National Register of Historic Places. The ACHP's members are the Architect of the Capitol; the Secretaries of the Interior, Agriculture, Defense, Housing and Urban Development, Commerce, Education, Veterans Affairs, and Transportation; the Administrator of the General Services Administration; the Chairman of the National Trust for Historic Preservation; the President of the National Conference of State Historic Preservation Officers; a Governor; a Mayor; a Native American; and eight non-Federal members appointed by the President.

The agenda for the meeting includes the following:

Call To Order—9 a.m.

I. Chairman's Welcome

II. Preserve America and Chairman's Award Presentation

III. Native American Activities

A. Native American Program Report

B. Native American Advisory Group

IV. National Parks Second Century Commission Report and the ACHP

V. Preserve America Program Implementation

VI. Sustainability and Historic Preservation: The Role of the ACHP

VII. Preservation Initiatives Committee

A. Administration Livable Communities Initiative

B. Legislative Update

VIII. Federal Agency Programs Committee

A. Recovery Act Update.

B. BLM Nationwide Programmatic Agreement Update

C. Energy Initiative and Section 106

D. Section 106 Case Updates

IX. Communications, Education, and Outreach Committee

A. Engaging Youth in Historic Preservation

B. New ACHP Informational Material

X. Chairman's Report

XI. Executive Director's Report

XII. New Business

XIII. Adjourn

Note: The meetings of the ACHP are open to the public.

If you need special accommodations due to a disability, please contact the Advisory Council on Historic Preservation, 1100 Pennsylvania Avenue, NW., Room 803, Washington, DC, 202-606-8503, at least seven (7) days prior to the meeting.

FOR FURTHER INFORMATION: Additional information concerning the meeting is available from the Executive Director, Advisory Council on Historic Preservation, 1100 Pennsylvania Avenue, NW., #803, Washington, DC 20004.

Dated: November 20, 2009.
John M. Fowler,
Executive Director.

[FR Doc. E9-28375 Filed 11-30-09; 8:45 am]

BILLING CODE 4310-K6-M